DEPARTMENT OF COMMERCE

International Trade Administration

[C-533-864]

Countervailing Duty Investigation of Certain Corrosion-Resistant Steel Products From India: Notice of Correction to Final Affirmative Determination; Negative Determination of Critical Circumstances

AGENCY: Enforcement and Compliance, International Trade Administration, Department of Commerce.

FOR FURTHER INFORMATION CONTACT: Matthew Renkey, AD/CVD Operations, Office V, Enforcement and Compliance, International Trade Administration, U.S. Department of Commerce, 14th Street and Constitution Avenue NW., Washington, DC 20230; telephone: (202) 482-2312.

SUPPLEMENTARY INFORMATION: On June 2, 2016, the Department of Commerce (the Department) published the Final Determination on certain corrosion-resistant steel products from India.¹ In the Final Determination the Department inadvertently omitted its final analysis of critical circumstances. Pursuant to 19 CFR 351.206(c)(2)(i), the Department preliminarily determined that critical circumstances did not exist ² and received no comments on this issue. Based on the examination of the shipping data placed on the record by the mandatory respondents after the Preliminary Determination,³ we examined whether the increase in imports was massive by comparing shipments over the period of July 2014 through February 2015, with the period March 2015 through October 2015 for the mandatory respondents.⁴ Because the Preliminary Determination was published November 6 (the beginning of November), we used data through October in determining critical circumstances for the mandatory respondents. For all other producers and exporters, our critical circumstances determination continues to be based on data through August, the latest month for which GTA data is on the record, and is thus unchanged from the Preliminary Determination. The Department continues to find that critical circumstances do not exist for the mandatory respondents, or for all other producers and exporters.

¹ See Countervailing Duty Investigation of Certain Corrosion-Resistant Steel Products from India: Final Affirmative Determination, 81 FR 35323 (June 2, 2016) (Final Determination).

² See Antidumping and Countervailing Duty Investigations of Corrosion-Resistant Steel Products from India, Italy, the People's Republic of China, the Republic of Korea, and Taiwan: Preliminary Determinations of Critical Circumstances, 80 FR 68504 (November 5, 2015).

³ See Countervailing Duty Investigation of Certain Corrosion-Resistant Steel Products from India: Preliminary Affirmative Determination, 80 FR 68854 (November 6, 2015) (Preliminary Determination).

⁴ See the November 16, 2015, quantity and value shipment data for October 2015 from the mandatory respondents.

This correction to the Final Determination is issued and published in accordance with section 777(i)(1) of the Tariff Act of 1930, as amended.

Dated: June 8, 2016.
Paul Piquado,
Assistant Secretary for Enforcement and Compliance.

[FR Doc. 2016-14072 Filed 6-13-16; 8:45 am]

BILLING CODE 3510-DS-P